DEPARTMENT OF ENERGY

Federal Energy Regulatory Commission

Combined Notice of Filings #1

Take notice that the Commission received the following electric corporate filings:

Docket Numbers: EC15-104-000.

Applicants: Tilton Energy, LLC, Rocky Road Power, LLC.

Description: Supplement to March 27, 2015 Application for Approval Pursuant to Section 203 of the FPA of Tilton Energy LLC and Rocky Road Power, LLC.

Filed Date: 4/17/15.

Accession Number: 20150417-5386.

Comments Due: 5 p.m. ET 4/24/15.

Docket Numbers: EC15-125-000.

Applicants: Blue Sky West, LLC.

Description: Application for Authorization Under Section 203 of the Federal Power Act and Request for Waivers, Confidential Treatment, Expedited Action and Shortened Comment Period of Blue Sky West, LLC.

Filed Date: 4/17/15.

Accession Number: 20150417-5358.

Comments Due: 5 p.m. ET 5/8/15.

Take notice that the Commission received the following electric rate filings:

Docket Numbers: ER15-960-000.

Applicants: CPV Biomass Holdings, LLC.

Description: Second Supplement to February 2, 2015 CPV Biomass Holdings, LLC tariff filing.

Filed Date: 4/17/15.

Accession Number: 20150417-5276.

Comments Due: 5 p.m. ET 4/24/15.

Docket Numbers: ER15-994-001.

Applicants: PJM Interconnection, L.L.C.

Description: Annual Compliance Report Regarding Operating Penalties of PJM Interconnection, L.L.C.

Filed Date: 4/17/15.

Accession Number: 20150417-5387.

Comments Due: 5 p.m. ET 5/8/15.

Docket Numbers: ER15-1530-000.

Applicants: New England Power Company.

Description: Section 205(d) rate filing per 35.13(a)(2)(iii): Amendment to REMVEC II Agreement and Request for Waiver of Notice Requirement to be effective 4/30/2015.

Filed Date: 4/17/15.

Accession Number: 20150417-5343.

Comments Due: 5 p.m. ET 5/8/15.

Docket Numbers: ER15-1531-000.

Applicants: Southwest Power Pool, Inc.

Description: Compliance filing per 35: Distribution of Penalty Revenues for Non-Firm PTP to be effective 4/17/2015.

Filed Date: 4/20/15.

Accession Number: 20150420-5001.

Comments Due: 5 p.m. ET 5/11/15.

Docket Numbers: ER15-1532-000.

Applicants: Southern California Edison Company.

Description: Tariff Withdrawal per 35.15: Notices of Cancellation SGIA and Distribution Serv Agmt Greenpower Williams LLC to be effective 6/20/2015.

Filed Date: 4/20/15.

Accession Number: 20150420-5005.

Comments Due: 5 p.m. ET 5/11/15.

Docket Numbers: ER15-1533-000.

Applicants: DTE Electric Company.

Description: Notice of Cancellation of Electric Rate Schedule FERC No. 23 of DTE Electric Company.

Filed Date: 4/17/15.

Accession Number: 20150417-5355.

Comments Due: 5 p.m. ET 5/8/15.

Take notice that the Commission received the following electric securities filings:

Docket Numbers: ES15-17-000.

Applicants: PJM Interconnection, L.L.C., PJM Settlement, Inc.

Description: Application of PJM Interconnection, L.L.C. and PJM Settlement, Inc. Under Section 204 of the Federal Power Act for an Order Authorizing Issuances of Securities and Approving Guranty.

Filed Date: 4/17/15.

Accession Number: 20150417-5356.

Comments Due: 5 p.m. ET 5/8/15.

Docket Numbers: ES15-18-000.

Applicants: MDU Resources Group, Inc.

Description: Application to issue securities and authorization to engage in methods of issuance other than competitive bidding and negotiated offers for 401(k) retirement plan of MDU Resources Group, Inc.

Filed Date: 4/17/15.

Accession Number: 20150417-5388.

Comments Due: 5 p.m. ET 5/8/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 20, 2015.
Nathaniel J. Davis, Sr.,
Deputy Secretary.

[FR Doc. 2015-09551 Filed 4-23-15; 8:45 am]

BILLING CODE 6717-01-P